DEPARTMENT OF THE INTERIOR

Fish and Wildlife Service

[80213-9421-0000-7B]

Notice of Adoption of an Environmental Impact Statement

AGENCY: Fish and Wildlife Service, Interior.

ACTION: Notice of adoption of an environmental impact statement prepared by the National Park Service for the Giacomini Wetland Restoration Project.

SUMMARY: We, the U.S. Fish and Wildlife Service (Service), give notice of our intent to adopt the National Park Service's existing environmental impact statement/environmental impact report (EIS/EIR) for the Giacomini Wetland Restoration Project in Marin County, California (Project). We are considering a decision to approve a National Coastal Wetlands Conservation Program grant for the California State Coastal Conservancy (SCC) to assist SCC in implementing the Project. The grant would help SCC restore and conserve a 556-acre coastal wetland ecosystem at the head of Tomales Bay. We propose to adopt the existing EIS/EIR, which evaluates the environmental effects of implementing field and construction activities related to restoring tidal and freshwater marsh habitat on the former dairy farm.

DATES: We must receive any written comments on or before April 4, 2008.

ADDRESSES: Send written comments to Ms. Laura Valoppi, Chief of Federal Assistance, California and Nevada Region, Fish and Wildlife Service, 2800 Cottage Way, W-2606, Sacramento, CA 95825.

FOR FURTHER INFORMATION CONTACT: Ms. Rebecca Miller, Fish and Wildlife Service, 2800 Cottage Way, Suite W-2606, Sacramento, CA 95825, or call (916) 978-6185.

SUPPLEMENTARY INFORMATION:

Availability of Documents

The final EIS/EIR for the Giacomini Wetlands Restoration Project is available online for public access and review at: http://www.nps.gov/pore/parkmgmt/planning_giacomini_wrp.htm. A copy of the final EIS/EIS will be available for public inspection, by appointment, during normal business hours at the Fish and Wildlife Service's Federal Assistance Office, 2800 Cottage Way, Suite W-1729, Sacramento, CA, 95825, for 30 days after this Notice is published in the Federal Register. Appointments may be arranged by calling (916) 978-6185 during normal business hours.

Background

We are considering a decision to approve a National Coastal Wetland Conservation grant to the SCC to assist in funding project activities that will help meet the objectives for the wetland restoration project on Giacomini Ranch and Olema Creek: (1) Improving water quality in Tomales Bay by restoring hydrologic connectivity to floodplains currently maintained as pasture through diking; (2) improving other natural functions provided by wetlands, such as food chain support and fish and wildlife habitat; and (3) providing opportunities for the public to experience and enjoy the wetlands and the restoration process.

Project Location

The Project is located in the north district of the Golden Gate National Recreation Area and the Point Reyes National Seashore at the southern end of Tomales Bay in Marin County, California.

National Environmental Policy Act

The proposed Federal decision to approve and grant Federal funds to implement the wetland restoration project triggers the need for compliance with the National Environmental Policy Act (NEPA). The NPS—as the acting lead agency for the NEPA process—and the California State Lands Commission—as the lead agency for the CEQA process—prepared and finalized a combined EIS/EIR document to address Federal and State actions associated with implementing the Project. The EIS/EIR evaluated one No Action alternative and four restoration or “Action” alternatives that vary in the amount of acres to be restored. The alternative selected for implementation is Alternative D, which is also the environmentally preferred alternative. The Project EIS/EIR was finalized in June 2007, and the NPS signed a Record of Decision (ROD) on August 18, 2007.

The final EIS/EIR for the Giacomini Wetland Restoration Project satisfies the requirement for NEPA compliance for the overall wetlands restoration project and includes identification of and supporting environmental documentation for necessary local, State, and Federal permits. Our review of the final EIS/EIR and ROD finds that they adequately address appropriate alternatives, and the environmental effects of the alternatives adequately consider the issues relevant to the Federal decision to grant Federal funds to the SCC to assist in implementing the selected alternative and they fully comply with implementing regulations of NEPA (40 CFR parts 1500-1508). Because the final EIS/EIR also provides substantial information needed to support grant applications for obtaining the funding necessary to implement elements of the overall project, we intend to adopt the existing final EIS/EIR to meet our obligation to fully comply with the regulations for implementing NEPA for the proposed Federal grant decision.

Public Review

We provide this notice under the regulations for implementing NEPA, as amended (40 CFR 1506.6). We invite the public to review the final EIS/EIR during a 30-day public comment period (see DATES). Before including your address, phone number, e-mail address, or other personal identifying information in your comment, you should be aware that your entire comment—including your personal identifying information—may be made publicly available at any time. While you may ask us in your comment to withhold your personal identifying information from public review, we cannot guarantee that we will be able to do so.

Dated: February 27, 2008.
Ken McDermond,
Deputy Regional Director, California and Nevada Region, Sacramento, California.

[FR Doc. E8-4268 Filed 3-4-08; 8:45 am]

BILLING CODE 4310-55-P